DEPARTMENT OF ENERGY

Federal Energy Regulatory Commission

[Docket Nos. RP06-51-000 and RP97-391-004]

Interstate Natural Gas Association of America; Notice of Petition To Waive Disbursement of Gas Research Institute Refund Obligation

October 27, 2005.

Take notice that on October 11, 2005, Interstate Natural Gas Association of America (INGAA), on behalf of its interstate natural gas pipeline company membership, filed a petition requesting that the Commission waive an obligation imposed on pipelines by a 1998 settlement obligation in Docket No. RP97-391 to pass through to customers certain Gas Research Institute (GRI) refunds and, in lieu of that obligation, authorize the pipelines to make payments to certain charitable organizations to assist victims of Hurricanes Katrina and Rita.

INGAA states that the refund amounts are so small that it would be impractical to disburse them to individual customers, and that disbursing the refund to certain charities to aid victims of Hurricanes Katrina and Rita is preferable.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time November 3, 2005.

Magalie R. Salas,
Secretary.

[FR Doc. E5-6081 Filed 11-2-05; 8:45 am]

BILLING CODE 6717-01-P